NUCLEAR REGULATORY COMMISSION

[EA-08-089]

In the Matter of: Louisiana Energy Services, L.P. (National Enrichment Facility); Order Approving Indirect Transfer of License and Conforming Amendment

I

Louisiana Energy Services (LES or the Licensee) is the holder of Special Nuclear Material License No. SNM-2010 for the National Enrichment Facility (NEF), issued by the U.S. Nuclear Regulatory Commission (NRC or Commission), pursuant to 10 CFR parts 30, 40, and 70. The Licensee is authorized, by its license, to construct and operate a uranium enrichment facility in accordance with the Atomic Energy Act of 1954 (AEA), as amended, and 10 CFR parts 30, 40, and 70. The LES license was issued on June 23, 2006, and is due to expire on June 23, 2036.

II

By letter dated October 19, 2007, the Licensee proposed to: (1) Restructure itself from a Limited Partnership (LP) to a Limited Liability Company (LLC); and (2) reorganize the ownership arrangement of Urenco Deelnemingen BV (UDE), a current limited partner of the Licensee. No physical changes to the NEF or operational changes were proposed.

The Licensee also requested approval of a conforming license amendment that would change the Licensee's name from Louisiana Energy Services, L.P., to Louisiana Energy Services, LLC.

Approval of the indirect transfer of the license and of the conforming license amendment was requested pursuant to 10 CFR 70.36. A notice of consideration of approval was published in the Federal Register on January 31, 2008 (73 FR 5882), including a notice of opportunity to request a hearing, or to submit written comments. No comments or requests for a hearing were submitted in response to this notice.

Pursuant to 10 CFR 30.34(b), 40.46, and 70.36, no license granted under those parts, and no right thereunder to use byproduct, source, or special nuclear material, shall be transferred, assigned, or in any manner disposed of, directly or indirectly, through a transfer of control of any license, to any person, unless the Commission shall, after securing full information, find that the transfer is in accordance with the AEA, and gives its consent in writing. The Commission will approve an application for the indirect transfer of a license, if the Commission determines that the proposed restructuring and reorganization will not affect the qualifications of the Licensee to hold the license, and that the transfer is otherwise consistent with applicable provisions of law, regulations, and orders issued by the Commission pursuant thereto. After review of the information in the Application and other information before the Commission, and relying on the representations and agreements contained in the Application, the NRC staff determined that the proposed corporate restructuring and indirect transfer of the license is acceptable and is otherwise consistent with applicable provisions of law, regulations, and orders issued by the Commission, subject to the conditions set forth below. The NRC staff has further determined that the application for the proposed license amendment complies with the standards and requirements of the AEA, and the Commission's rules and regulations set forth in Title 10 Chapter I. The requested indirect transfer of the license and issuance of the conforming license amendment will not be inimical to the common defense and security or to the health and safety of the public, or the environment, and the issuance of the proposed amendment would be in accordance with 10 CFR part 51 of the Commission's regulations, and all applicable requirements have been satisfied.

III

Accordingly, pursuant to sections 161b, 161i, and 184 of the Act; 42 U.S.C. 2201(b), 2201(i), and 2234; and 10 CFR 30.34(b), 40.46, and 70.36, it is hereby ordered that the Application regarding the indirect transfer of license, as described herein, is approved, subject to the following condition, which is also hereby made a condition of the license:

The Licensee, as stated in the Application, will abide by all commitments and representations previously made by the Licensee with respect to the license.

It is further ordered that the conforming license amendment for the indirect transfer of license shall be issued and made effective at the time the proposed license transfer is completed.

It is further ordered that:

—In order to ensure that the NRC is timely notified of the transfer's completion, the Licensee shall inform the Director of the Office of Nuclear Material Safety and Safeguards, in writing, of the date of closing of the indirect transfer of License No. SNM-2010, at least one (1) business day prior to closing; and

—If the indirect transfer of license and all the above conforming conditions have not been completed within 60 days from the date of the issuance of the Order, the Order shall become null and void; however, on written application and for good cause shown, such date may be extended by order.

This Order is effective upon issuance.

For further details with respect to this Order, see the initial application dated October 19, 2007, and the Safety Evaluation Report that supports the amendment, which are available for public inspection at the Commission's Public Document Room (PDR), located at One White Flint North, Public File Area 01 F21, 11555 Rockville Pike (first floor), Rockville, Maryland, and accessible, electronically, from the Agencywide Documents Access and Management System (ADAMS) Public Electronic Reading Room, on the Internet, at the NRC Web site, http://www.nrc.gov/reading-rm/adams.html. Persons who do not have access to ADAMS, or who encounter problems in accessing the documents located in ADAMS, should contact the NRC PDR reference staff, by telephone at 1-800-397-4209, 301-415-4737, or via e-mail, to pdr@nrc.gov.

Dated this 3rd day of April, 2008.
For the Nuclear Regulatory Commission.
Eric J. Leeds,
Deputy Director, Office of Nuclear Material Safety and Safeguards.

[FR Doc. E8-8895 Filed 4-23-08; 8:45 am]

BILLING CODE 7590-01-P